Proclamation 10170 of March 31, 2021

National Sexual Assault Prevention and Awareness Month, 2021

By the President of the United States of America

A Proclamation

Sexual assault, at its core, is a devastating abuse of power—one that affects people of every age, race, sex, gender identity, sexual orientation, national origin, socioeconomic background, and religion. It is the responsibility of each of us to stand up and speak out against it, not only to improve the laws and services available to survivors, but also to change the culture and attitudes that allow sexual assault to proliferate. Together, we must work toward a society that upholds every person's right to live free from sexual violence—where our institutions and communities commit to preventing sexual assault and sexual harassment, supporting survivors, and holding offenders accountable.

The pandemic has exacerbated the already harrowing challenges facing sexual assault survivors by making it more difficult or risky for them to seek help. Victims may be reluctant to go to the hospital for a medical forensic exam because of the risk of COVID-19 exposure; rape crisis centers and other social service providers have struggled to maintain their services while adopting necessary public health protocols; and survivors are often isolated from loved ones, friends, or co-workers who might be in the best position to provide support. As we race to stop the spread of this devastating virus, we must strengthen our efforts to support sexual assault survivors whose suffering may be compounded by this pandemic, as well as by the economic crisis that has further undermined their economic security and taken a toll on service providers.

We also must recognize that sexual assault was already a public health crisis even before the pandemic struck. According to the National Intimate Partner and Sexual Violence Survey, done by the CDC, one in five women has been a victim of a completed or attempted rape at some point in her lifetime. Research has revealed a strong link between sexual violence and chronic disease, as well as greater long-term economic burdens on survivors of sexual assault. The trauma of assault is further compounded by the high costs of medical and mental health care, navigating the criminal justice system, and lost productivity.

My Administration stands with survivors, and is committed to alleviating the public health crisis of sexual assault. As part of the American Rescue Plan (ARP), we included $450 million in supplemental funding for domestic violence and sexual assault services, including rape crisis centers. Recognizing the added barriers faced by survivors from historically marginalized communities—particularly survivors who are Black, Indigenous, Latino, Asian Americans and Pacific Islanders and other people of color—the ARP includes new funding to support community-based organizations to provide culturally-specific services for survivors of sexual assault and domestic violence.

I am also proud to have created the first-ever White House Gender Policy Council, through an Executive Order that I signed on International Women's Day. In addition to its work to bring a whole-of-government approach to gender equity in every policy we pursue, this Council will help coordinate Federal agencies to develop a National Action Plan to End Gender-Based Violence. I have also established an independent review commission that will provide recommendations to help guide the development of new policies and enforcement measures in keeping with my Administration's unwavering commitment to improving the response to, and prevention of, sexual assault and sexual harassment in the military.

To strengthen our national commitment to end gender-based violence, we must also renew and further improve the Violence Against Women Act (VAWA). Writing and championing the passage of VAWA as a Senator is one of my proudest legislative accomplishments—it is a law that has transformed the way our country responds to sexual assault and intimate partner violence. With each reauthorization, I have worked with the Congress to expand VAWA's provisions on a bipartisan basis to improve protections, including for Native American women, the lesbian, gay, bisexual, and transgender community, as well as immigrant survivors and survivors from communities of color and other underserved groups. I applaud the House of Representatives for recently passing the Violence Against Women Reauthorization Act of 2021 with bipartisan support, and I urge the Senate to follow their lead to renew and strengthen this landmark law immediately. Through this legislation, we can continue to support Federal programs with a proven track record of helping survivors heal, strengthen the coordinated community response, improve the response of the criminal justice system, and provide additional pathways to safety by supporting innovative programs and prevention efforts.

We have made important strides thanks to courageous survivors and dedicated advocates. This month, we honor the strength and resilience of sexual assault survivors, and we recommit ourselves to standing with them for safety, dignity, and justice. There is still much work to do, and it will take all of us to do it. This year's Sexual Assault Awareness and Prevention Month is an opportunity for every person, employer, school, sports team, faith-based organization, and institution to come together and commit to being part of the solution. We must rededicate ourselves to creating a society where sexual violence—including sexual assault and sexual harassment—is not tolerated, where survivors are supported, and where all people have an opportunity to thrive without fear of abuse or assault.

NOW, THEREFORE, I, JOSEPH R. BIDEN JR., President of the United States of America, by virtue of the authority vested in me by the Constitution and the laws of the United States, do hereby proclaim April 2021 as National Sexual Assault Awareness and Prevention Month. I urge all Americans to support victims when they reach out and disclose abuse.

IN WITNESS WHEREOF, I have hereunto set my hand this thirty-first day of March, in the year of our Lord two thousand twenty-one, and of the Independence of the United States of America the two hundred and forty-fifth.

[FR Doc. 2021-07178

Filed 4-5-21; 8:45 am]

Billing code 3295-F1-P